MORRIS K. UDALL AND STEWART L. UDALL FOUNDATION

Sunshine Act Meetings

TIME AND DATE: 10:00 a.m. to 10:30 a.m. (MST-AZ), Tuesday, December 16, 2025.

PLACE: Virtual Board of Trustees Meeting via Microsoft Teams.

STATUS: This virtual meeting of the Board of Trustees will be open to the public. Members of the public who would like to attend this meeting may request remote access by contacting Sara Moeller at moeller@udall.gov prior to December 16, 2025, to obtain the teleconference connection information.

MATTERS TO BE CONSIDERED: (1) Call to Order and Chair's Remarks; (2) Trustees' Remarks; (3) Executive Director's Remarks; (4) Consent Agenda Approval (Minutes of the May 6, 2025, Board of Trustees Meeting; Board Reports submitted for Education Programs, Finance and Internal Controls, John S. McCain III National Center for Environmental Conflict Resolution, and Udall Center for Studies in Public Policy, including the Native Nations Institute for Leadership, Management, and Policy and Special Collections at the University of Arizona Libraries; and Board takes notice of any new and updated personnel policies and internal control methodologies); and (5) The University of Arizona Fiscal Year 2026 Program Work Plan and Funding (including votes on resolutions regarding Allocation of Funds to the Udall Center for Studies in Public Policy and Special Collections at the University of Arizona Libraries and Funds Set Aside for the Native Nations Institute for Leadership, Management, and Policy, a program of the Udall Center for Studies in Public Policy).

CONTACT PERSON FOR MORE INFORMATION: Sara Moeller, Chief Operating Officer, 434 E University Blvd., Suite 300, Tucson, AZ, 85705, (520) 345-3562.

Dated: December 2, 2025.

David P. Brown,
Executive Director, Morris K. Udall and Stewart L. Udall Foundation.

[FR Doc. 2025-21954 Filed 12-2-25; 4:15 pm]

BILLING CODE 6820-FN-P